DEPARTMENT OF JUSTICE

Antitrust Division

Notice pursuant to the National Cooperative Research and Production Act of 1993—Infiniband Trade Association

Notice is hereby given that, on January 21, 2000, pursuant to section 6(a) of the National Cooperative Research and Production Act of 1993, 15 U.S.C. 4301 et seq. (“the Act”), System I/O, Ind. dba InfiniBand Trade Association (“InfiniBand”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are 3Com, Santa Clara, CA; AANetcom, Inc., San Jose, CA; Adaptec Inc., Milpitas, CA; Alacrity Communications, Inc., Milpitas, CA; American Megatrends Inc., Fremont, CA; Amphenol, Hamden, CT; Analog Devices, Newbury, United Kingdom; Ancor Communications Inc., Eden Prairie, MN; Auspex Systems, Santa Clara, CA; Chip2Chip, San Jose, CA; Cisco Systems, San Jose, CA; CMD Technology, Inc., Irvine, CA; Compaq Computer Corporation, Houston, TX; Crossroads Systems, Inc., Austin, TX; Dell Computer, Round Rock, TX; Diancom, Inc., Cupertino, CA; Distributed Processing Technology, Maitland, FL; DotHill Systems Corp., Carlsbad, CA; Emulex Corporation, Costa Mesa, CA; Essential—ODS Networks, Albuquerque, NM; Fairchild Semiconductor, South Portland, ME; FCI Electronics, Inc., Contoocook, NH; Finisar Corporation, Sunnyvale, CA; Force Computers, Neublberg/Munchen, Germany; Foxconn, Dillsburg, PA: Fujitsu Computer Products of America, Inc., San Jose, CA; Fujitsu Limited, Kohoku-ku, Yokohama, Japan; Fujitsu-Siemens Computers, Bracknell, Berks, United Kingdom; Gadzoox Networks, Inc., Placentia, CA; Hewlett-Packard Company, Cupertino, CA; Hirose Electric, Simi Valley, CA; Hitachi, Ltd., Ebina-shi, Japan; Honeywell International, Richardson, TX; HotRail Incorporated, San Jose, CA; IBM Corporation, Research Triangle Park, NC; INH Semiconductor, Cedar Park, TX; Intel Corporation, Hillsboro, OR; Interphase Corporation, Dallas, TX; IO Authority, San Francisco, CA; JNI Corp., San Diego, CA; LSI Logic, Colorado Springs, CO; Lucent Technologies Inc., Richardson, TX; Marathon Technologies Corp., Boxborough, MA; McData Corporation, Broomfield, CO; Mellanox Technologies, Santa Clara, CA; Microsoft Corporation, Redmond, WA; Molex Inc., Lisle, IL; Myricom, Inc., Arcadia, CA; NEC Corporation, Tokyo, Japan; Network Appliance Inc., Sunnyvale, CA; Network Elements, Inc., Beaverton, OR; Nortel Networks, Nepean, Ontario, Canada; Orca Systems, Watertown, MA; PLX Technology, Inc., Sunnyvale, CA; Qlogic, Costa Mesa, CA; Quantum, Milpitas, CA; Seagull Semiconductor, Herzella, Israel; Silicon Graphics, Mt. View, CA; Storage Networks, Inc., Waltham, MA; Stratus Computer Systems, Maynard, MA; Sun Microsystems, Burlington, MA; Syskonnect, Archern, Germany; Tektronix, Beaverton, OR; Texas Instruments, Dallas, TX; Tundra Semiconductor Corporation, Kanata, Ontario, Canada; Western Digital, San Jose, CA; and Xilinx, Inc., San Jose, CA. The nature and objectives of the venture are to be a forum for the development of specifications and related activities that: (i) support the creation of interoperable, scalable and reliable I/O products, computer systems, and computer technologies; (ii) are based on a channel-oriented, switched fabric communication technique that addresses the needs of a broad range of computer systems and computer technologies (including, but not limited to, both low-cost, volume-oriented computer systems and computer technologies and high-end enterprise class computer systems and computer technologies); and (iii) are limited to those elements required to enable, promote, or improve communications, interoperability, and connectivity between products developed in compliance with the specifications. InfiniBand's specific purpose includes promoting its specifications as industry-wide standards; issuing design guidelines and programming guidelines relating to its specifications; presenting activities that promote the use of the specifications; and providing for the licensing or publication of the specifications on reasonable and non-discriminatory terms. InfiniBand's specifications may include information directing specific implementations only as necessary to enable, promote and/or improve communications, interoperability, and connectivity between products developed in compliance with the specifications.

In furtherance of the above stated specific purpose, InfiniBand may, among other things, engage in theoretical analysis; experimentation; systematic study; research; development; testing; the extension of investigative findings or theory of a scientific or technical nature into practical application; the collection, exchange and analysis of research or production information; and any combination of the foregoing.

Constance K. Robinson,
Director of Operations, Antitrust Division.

[FR Doc. 00-15612 Filed 6-20-00; 8:45 am]

BILLING CODE 4410-11-M